DEPARTMENT OF THE TREASURY

Internal Revenue Service

Proposed Collection; Comment Request for Research and Strategic Planning for Limited English Proficient (LEP) Hispanic Taxpayers

AGENCY: Internal Revenue Service (IRS), Treasury.

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). Currently, the IRS is soliciting comments concerning Research and Strategic Planning For Limited English Proficient (LEP) Hispanic Taxpayers.

DATES: Written comments should be received on or before January 27, 2003 to be assured of consideration.

ADDRESSES: Direct all written comments to Glenn P. Kirkland, Internal Revenue Service, room 6411, 1111 Constitution Avenue NW., Washington, DC 20224.

FOR FURTHER INFORMATION CONTACT: Requests for additional information or copies of the survey should be directed to Carol Savage, (202) 622-3945, or through the Internet (CAROL.A.SAVAGE@irs.gov.), Internal Revenue Service, room 6407, 1111 Constitution Avenue NW., Washington, DC 20224.

SUPPLEMENTARY INFORMATION: Title: Research and Strategic Planning For Limited English Proficient (LEP) Hispanic Taxpayers.

OMB Number: To be assigned later.

Abstract: Executive Order 13166 requires Federal agencies to examine the services they provide, identify any need for services to those with limited English proficiency (LEP), and develop and implement a system to provide those services so LEP persons can have meaningful access consistent with the fundamental mission of the agency. In addition, the IRS Restructuring and Reform Act of 1998 requires the IRS to report to Congress annually on its progress in eliminating barriers to e-filing. The purpose of these focus groups, ethnographies, one-on-one interviews, and segmentation study is to understand the cultural nuances and perceptions of taxes and the IRS and needs among Hispanics so that the IRS can provide better services and outreach to this growing segment of the U.S. population. These studies will not only help identify barriers to e-filing, but will also provide the IRS with information to be used in marketing and communication efforts related to reaching Hispanic in a way that is more impactful and relevant. The efforts resulting from the studies will help the IRS build a more trusting relationship while educating LEP Hispanics on how to properly fill out their tax forms encourage electronic filing.

Current Actions: This is a new collection of information.

Type of Review: New OMB approval.

Affected Public: Individuals or households, business or other for-profit organizations, and the Federal Government.

Estimated Number of Respondents: 1,712.

Estimated Time Per Respondent: 50 minutes.

Estimated Total Annual Burden Hours: 1,440.

The following paragraph applies to all of the collections of information covered by this notice:

An agency may not conduct or sponsor, and a person is not required to respond to, a collection of information unless the collection of information displays a valid OMB control number. Books or records relating to a collection of information must be retained as long as their contents may become material in the administration of any internal revenue law. Generally, tax returns and tax return information are confidential, as required by 26 U.S.C. 6103.

Request for Comments

Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Approved: November 22, 2002.
Glenn P. Kirkland,
IRS Reports Clearance Officer.

[FR Doc. 02-30144 Filed 11-26-02; 8:45 am]

BILLING CODE 4830-01-P